INTERNATIONAL TRADE COMMISSION

[Investigation Nos. 701-TA-654-655 and 731-TA-1530-1532 (Final)]

Seamless Carbon and Alloy Steel Standard, Line, and Pressure Pipe From Korea, Russia, and Ukraine

Determinations

On the basis of the record ¹ developed in the subject investigations, the United States International Trade Commission (“Commission”) determines, pursuant to the Tariff Act of 1930 (“the Act”), that an industry in the United States is materially injured by reason of imports of seamless carbon and alloy steel standard, line, and pressure pipe (“SSLP pipe”) from Korea, Russia, and Ukraine, provided for in subheadings 7304.19.10, 7304.19.50, 7304.31.60, 7304.39.00, 7304.51.50, 7304.59.60, and 7304.59.80 of the Harmonized Tariff Schedule of the United States, that have been found by the U.S. Department of Commerce (“Commerce”) to be sold in the United States at less than fair value (“LTFV”) and to be subsidized by the governments of Korea and Russia.²

¹ The record is defined in § 207.2(f) of the Commission's Rules of Practice and Procedure (19 CFR 207.2(f)).

² 86 FR 35263-35265, 35267-35276, July 2, 2021.

Background

The Commission instituted the antidumping and countervailing duty investigations effective July 8, 2020, following receipt of petitions filed with the Commission and Commerce by Vallourec Star, LP, Houston, Texas. The Commission established a general schedule for the conduct of the final phase of its investigations on SSLP pipe from the Czech Republic (“Czechia”), Korea, Russia, and Ukraine following notification of preliminary determinations by Commerce that imports of SSLP pipe from Korea and Russia were subsidized within the meaning of section 703(b) of the Act (19 U.S.C. 1671b(b)) and imports of SSLP pipe from Czechia were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 31, 2020 (85 FR 86946). In light of the restrictions on access to the Commission building due to the COVID-19 pandemic, the Commission conducted its hearing through written testimony and video conference on March 4, 2021. All persons who requested the opportunity were permitted to participate.

The investigation schedules became staggered when Commerce did not postpone its preliminary determination in the antidumping duty investigation with respect to Czechia (85 FR 83059, December 21, 2020). On April 19, 2021, the Commission issued a final affirmative determination in its antidumping duty investigation of SSLP pipe from Czechia (86 FR 21763). Following notification of final determinations by Commerce that imports of SSLP pipe from Korea, Russia, and Ukraine were being sold at LTFV within the meaning of section 735(a) of the Act (19 U.S.C. 1673d(a)), and subsidized by the governments of Korea and Russia within the meaning of section 705(a) of the Act (19 U.S.C. 1671d(a)), notice of the supplemental scheduling of the final phase of the Commission's antidumping and countervailing duty investigations was given by posting copies of the notice in the Office of the Secretary, U.S. International Trade Commission, Washington, DC, and by publishing the notice in the Federal Register of July 13, 2021 (86 FR 36772).

The Commission made these determinations pursuant to §§ 705(b) and 735(b) of the Act (19 U.S.C. 1671d(b) and 19 U.S.C. 1673d(b)). It completed and filed its determinations in these investigations on August 16, 2021. The views of the Commission are contained in USITC Publication 5222 (August 2021), entitled Seamless Carbon and Alloy Steel Standard, Line, And Pressure Pipe from Korea, Russia, and Ukraine: Investigation Nos. 701-TA-654-655 and 731-TA-1530-1532 (Final).

By order of the Commission.
Issued: August 16, 2021.
Lisa Barton,
Secretary to the Commission.

[FR Doc. 2021-17845 Filed 8-19-21; 8:45 am]

BILLING CODE 7020-02-P